DEPARTMENT OF HOMELAND SECURITY

Transportation Security Administration

Reports, Forms, and Recordkeeping Requirements: Agency Information Collection Activity Under OMB Review; TSA Airspace Waiver Program

AGENCY: Transportation Security Administration (TSA), DHS.

ACTION: Notice.

SUMMARY: This notice announces that TSA has forwarded the Information Collection Request (ICR) abstracted below to the Office of Management and Budget (OMB) for review and clearance under the Paperwork Reduction Act. The ICR describes the nature of the information collection and its expected burden. TSA published a Federal Register notice, with a 60-day comment period soliciting comments, of the following collection of information on November 22, 2004, 69 FR 67933.

DATES: Send your comments by July 25, 2005. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Katrina Wawer, Information Collection Specialist, Office of Transportation Security Policy, TSA-9, Transportation Security Administration, 601 South 12th Street, Arlington, VA 22202-4220; telephone (571) 227-1995; facsimile (571) 227-2594.

SUPPLEMENTARY INFORMATION:

Transportation Security Administration (TSA)

Title: TSA Airspace Waiver Program.

Type of Request: New collection.

OMB Control Number: Not yet assigned.

Form(s): TSA Waiver Request Form.

Affected Public: General aviation community.

Abstract: TSA is seeking approval for this collection of information in order to operate its airspace waiver program. The airspace waiver program allows general aviation aircraft operators to apply for approval to operate in restricted airspace. This collection of information allows TSA to conduct security threat assessments on these aircraft operators to enhance the security of aviation and assets on the ground that are subject to restricted airspace. TSA is requesting approval to respond to the needs of the general aviation community and to allow freedom of movement and commerce throughout United States airspace.

Waiver request forms may be obtained via the Internet on the TSA General Aviation Web site at http://www.tsa.gov/public/display?theme=180 (for domestic and international waivers), on the Federal Aviation Administration (FAA) Web site at https://waiver.tfr.faa.gov (for sporting event waivers), or via facsimile by contacting TSA's Office of Airspace Waivers at 571-227-1945. TSA will transmit the form to applicants either electronically or by facsimile. Applicants are required to file an airspace waiver request seven (7) days prior to the start date of the flight. Applicants may submit the completed request form either electronically or by facsimile. Applicants are required to provide flight, pilots, passenger, and crew information on the waiver request form.

Number of Respondents: 24,000.

Estimated Annual Burden Hours: An estimated 42,000 hours annually.

TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Issued in Arlington, Virginia, on June 17, 2005.
Lisa S. Dean,
Privacy Officer.

[FR Doc. 05-12404 Filed 6-22-05; 8:45 am]

BILLING CODE 4910-62-P